DEPARTMENT OF STATE

[Public Notice 10723]

Notice of Determinations; Culturally Significant Objects Imported for Exhibition—Determinations: “Buried by Vesuvius: Treasures From the Villa dei Papiri” Exhibition

SUMMARY: On September 25, 2018, notice was published on page 48499 of the Federal Register (volume 83, number 186) of determinations pertaining to a certain object to be included in the exhibition “After Vesuvius: Treasures From the Villa dei Papiri.” Notice is hereby given of the following determinations: I hereby determine that certain additional objects to be included in the exhibition “Buried by Vesuvius: Treasures from the Villa dei Papiri” (formerly entitled “After Vesuvius: Treasures From the Villa dei Papiri”), imported from abroad for temporary exhibition within the United States, are of cultural significance. The additional objects are imported pursuant to loan agreements with the foreign owners or custodians. I also determine that the exhibition or display of the additional exhibit objects at The J. Paul Getty Museum at the Getty Villa, Pacific Palisades, California, from on or about June 26, 2019, until on or about October 28, 2019, and at possible additional exhibitions or venues yet to be determined, is in the national interest. I have ordered that Public Notice of these determinations be published in the Federal Register.

FOR FURTHER INFORMATION CONTACT: Julie Simpson, Attorney-Adviser, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Educational and Cultural Affairs, Department of State.

[FR Doc. 2019-06867 Filed 4-5-19; 8:45 am]

BILLING CODE 4710-05-P